DEPARTMENT OF ENERGY

Federal Energy Regulatory Commission

Combined Notice of Filings #1

Take notice that the Commission received the following electric corporate filings:

Docket Numbers: EC14-81-000.

Applicants: NatGen Southeast Power LLC, Calpine Oneta Power, LLC, Decatur Energy Center, LLC, MOBILE ENERGY LLC, Santa Rosa Energy Center, LLC, Calpine Energy Services, L.P.

Description: Joint Application for Approval Under Section 203 of the Federal Power Act and Request for Expedited Action of NatGen Southeast Power LLC, et al.

Filed Date: 4/28/14.

Accession Number: 20140428-5361.

Comments Due: 5 p.m. ET 5/19/14.

Take notice that the Commission received the following electric rate filings:

Docket Numbers: ER10-1852-007.

Applicants: Florida Power & Light Company.

Description: Notice of Non-material Change in Status of Florida Power & Light Company.

Filed Date: 4/28/14.

Accession Number: 20140428-5212.

Comments Due: 5 p.m. ET 5/19/14.

Docket Numbers: ER10-3097-002.

Applicants: Bruce Power Inc.

Description: Notice of Non-Material Change in Status of Bruce Power Inc.

Filed Date: 4/28/14.

Accession Number: 20140428-5358.

Comments Due: 5 p.m. ET 5/19/14.

Docket Numbers: ER14-1786-000.

Applicants: Southwestern Public Service Company.

Description: 2014-4-28_SPS-BCEC-GSEC-CA-KELLEY-669-0.0.0 to be effective 4/29/2014.

Filed Date: 4/28/14.

Accession Number: 20140428-5292.

Comments Due: 5 p.m. ET 5/19/14.

Docket Numbers: ER14-1787-000.

Applicants: PJM Interconnection, L.L.C.

Description: Queue Position Y2-067; Original SA No. 3806 & Cancellation of SA No. 2429 to be effective 3/28/2014.

Filed Date: 4/28/14.

Accession Number: 20140428-5293.

Comments Due: 5 p.m. ET 5/19/14.

Docket Numbers: ER14-1788-000.

Applicants: MidAmerican Energy Company.

Description: Service Agreement 333 Termination—Clipper—Fowler Wind to be effective 4/29/2014.

Filed Date: 4/28/14.

Accession Number: 20140428-5306.

Comments Due: 5 p.m. ET 5/19/14.

Docket Numbers: ER14-1789-000.

Applicants: California Independent System Operator Corporation.

Description: 2014-04-28_NCPA_MSSA to be effective 5/1/2014.

Filed Date: 4/28/14.

Accession Number: 20140428-5312.

Comments Due: 5 p.m. ET 5/19/14.

Docket Numbers: ER14-1790-000.

Applicants: California Independent System Operator Corporation.

Description: 2014-04-28_SVP_MSSA_Amendment to be effective 5/1/2014.

Filed Date: 4/28/14.

Accession Number: 20140428-5314.

Comments Due: 5 p.m. ET 5/19/14.

Docket Numbers: ER14-1791-000.

Applicants: Footprint Power Salem Harbor Operations.

Description: Footprint Cancellation Filing to be effective 6/1/2014.

Filed Date: 4/29/14.

Accession Number: 20140429-5045.

Comments Due: 5 p.m. ET 5/20/14.

Docket Numbers: ER14-1792-000.

Applicants: Pinnacle Power, LLC.

Description: Pinnacle Power, LLC Market Based Rates Application to be effective 6/1/2014.

Filed Date: 4/29/14.

Accession Number: 20140429-5049.

Comments Due: 5 p.m. ET 5/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2014.
Kimberly D. Bose,
Secretary.

[FR Doc. 2014-10428 Filed 5-6-14; 8:45 am]

BILLING CODE 6717-01-P